NATIONAL SCIENCE FOUNDATION

Business and Operations Advisory Committee; Notice of Meeting

In accordance with the Federal Advisory Committee Act (Pub., L. 92-463, as amended), the National Science Foundation (NSF) announces the following meeting:

Name and Committee Code: Business and Operations Advisory Committee (9556).

Dates and Times: June 20, 2017; 1:00 p.m. to 5:45 p.m. (EST); June 21, 2017; 8:00 a.m. to 12:00 p.m. (EST).

Place: National Science Foundation, 4201 Wilson Boulevard, Arlington, Virginia 22230; Stafford I, Room 1235.

Type of Meeting: Open.

Contact Person: Patty Balanga, National Science Foundation, 4201 Wilson Boulevard, Arlington, VA 22230; (703) 292-8100.

Purpose of Meeting: To provide advice concerning issues related to the oversight, integrity, development and enhancement of NSF's business operations.

Agenda

Tuesday, June 20, 2017; 1:00 p.m.-5:45 p.m.

Welcome/Introductions; BFA/OIRM/OLPA/Budget Updates; Reforming the Federal Government—Overview; Conversation with NSF's Steering Committee for Agency Reform; Reforming the Federal Government—What Does Reform Mean for NSF?; Discussion with Dr. Córdova.

Wednesday, June 21, 2017; 8:00 a.m.-12:00 p.m.

Reforming the Federal Government—Reform Implementation; Update on the NSF Relocation; Formation of New Subcommittee on NSF's Strengthened Oversight of Large Facility Cost Surveillance; Report from NSF on Implementation of the Recommendations of the Subcommittee on NAPA Implementation Regarding NSF's Use of Cooperative Agreements to Support Large Scale Investments in Science and Technology; Meeting Wrap-Up.

Dated: May 22, 2017.
Suzanne Plimpton,
Acting Committee Management Officer.

[FR Doc. 2017-10792 Filed 5-25-17; 8:45 am]

BILLING CODE 7555-01-P